DEPARTMENT OF THE TREASURY

Internal Revenue Service

26 CFR Part 1

[TD 9232]

RIN 1545-BD33

Guidance on Passive Foreign Investment Company (PFIC) Purging Elections; Correction

AGENCY: Internal Revenue Service (IRS), Treasury.

ACTION: Correcting amendment.

SUMMARY: This document corrects temporary regulations (TD 9232) that were published in the Federal Register on Thursday, December 8, 2005 (70 FR 72908) that provide certain elections for taxpayers that continue to be subject to the PFIC excess distribution regime of section 1291 even though the foreign corporation in which they own stock is no longer treated as a PFIC under section 1297(a) or (e).

DATES: This correction is effective December 8, 2005.

FOR FURTHER INFORMATION CONTACT: Ethan Atticks, (202) 622-3840 (not a toll-free number).

SUPPLEMENTARY INFORMATION:

Background

The temporary regulations are under sections 1291(d)(2), 1297(e) and 1298(b)(1) of the Internal Revenue Code.

Need for Correction

As published, the temporary regulations (TD 9232) contain errors that may prove to be misleading and are in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *.

§ 1.1297-3T [Corrected]

1. Section 1.1297-3T(e)(1)(i), the language “December 31, 2005” is removed and the language “June 30, 2006” is added in its place.

2. Section 1.1298-3T(e)(1)(i), the language “December 31, 2005” is removed and the language “June 30, 2006” is added in its place.

Cynthia E. Grigsby,
Acting Chief, Publications and Regulations Branch, Legal Processing Division, Associate Chief Counsel, (Procedure and Administration).

[FR Doc. 06-682 Filed 1-24-06; 8:45 am]

BILLING CODE 4830-01-P